DEPARTMENT OF HOUSING AND URBAN DEVELOPMENT

[Docket No. FR-7001-N-03]

30-Day Notice of Proposed Information Collection: Section 184 and 184-A Loan Guarantee Program

AGENCY: Office of the Chief Information Officer, HUD.

ACTION: Notice.

SUMMARY: HUD submitted the proposed information collection requirement described below to the Office of Management and Budget (OMB) for review, in accordance with the Paperwork Reduction Act. The purpose of this notice is to allow for 30 days of public comment.

DATES: Comments Due Date: March 2, 2018.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Colette Pollard, Reports Management Officer, QMAC, Department of Housing and Urban Development, 451 7th Street SW, Washington, DC 20410; email Colette.Pollard@hud.gov, or telephone 202-402-3400. This is not a toll-free number. Person with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on October 11, 2017 at 82 FR 47238.

A. Overview of Information Collection

Title of Information Collection: Section 184 and 184-A Loan Guarantee Program.

OMB Approved Number: 2577-0200.

Type of Request: Revision of Currently Approved Collection.

Form Number: HUD-XXXX, HUD-50110-A, HUD-50111-A, HUD-50112-A, HUD-50118-A, HUD-50119-A, HUD-50124-A, HUD-50125-A, HUD-50127-A, HUD-50128-A, HUD-50131-A, HUD-50132, HUD-50132-A, HUD 50143-A, HUD-50148, HUD-50149, HUD-50149-A, HUD-53039, HUD-53039-A.

Description of the need for the information and proposed use: The information collected is used to determine a borrower's credit worthiness and ability to pay for a home loan as well as to ensure that lenders comply with the program requirements.

The United States Department of Housing and Urban Development's (HUD) Office of Native American Programs (ONAP) is developing a system called the Loan Origination System (ONAP-LOS) to support the Section 184 Indian Home Loan Guarantee Program. The ONAP- LOS system will deliver automated processes for case registration, reservation of funds, issuance of loan guarantee certificates, and lender registration and re-certification. This system will capture and maintain data across the following major information categories: lenders, borrowers, properties, and loan. The enhanced enterprise solution will provide participating lender partners with clarity and transparency around the ONAP enforcement efforts and it will expand access to credit for eligible borrowers. The initial release of the ONAP-LOS will deliver the following high-level capabilities:

• Authentication of External Lenders

• Case Registration—Intake of Case Registration Data & Case Number Issuance

• Generation of Case Registration Acknowledgement

ONAP designed the new system to reduce the number of forms needed and the time to prepare the forms while ensuring the highest level of security and privacy protections. ONAP-LOS is available to all lenders with direct guarantee approval, upon completion of scheduled training.

ONAP operates the Section 184-A program for eligible native Hawaiians. The program is designed to offer home ownership, property rehabilitation, and new construction opportunities for eligible native Hawaiian individuals and families wanting to own a home on Hawaiian home lands. The Hawaiian Homelands Homeownership Act of 2000 added a new Section 184A to the Housing and Community Development Act of 1992 which authorized the Native Hawaiian Housing Loan Guarantee Program. The regulations for Section 184-A are found at 24 CFR part 1007. This Paperwork Reduction Act package includes all forms required for the Section 184-A program.

Respondents (i.e. affected public): 21,985.

Estimated Number of Respondents: 21,985.

Estimated Number of Responses: 21,985.

Frequency of Response: 1.

Average Hours per Response: 3.4 hours.

Total Estimated Annual Burden and Cost:

Form No. | Form name | Number of respondents | Frequency of response | Responses per annum | Burden hour per response | Annual burden hours | Hourly cost per response | Annual cost
HUD-XXXX | ONAP-Loan Origination System | 5,000 | 1 | 5,000 | 0.5 | 2,500 | $18 | $45,000
HUD-50110-A | 184A Warranty of Completion of Construction | 3 | 1 | 3 | 0.15 | 0.45 | 18 | 8
HUD-50111-A | 184A Addendum to Uniform Residential Loan Application | 63 | 1 | 63 | 0.5 | 31.5 | 18 | 567
HUD-50112-A | 184A Construction Loan Rider | 3 | 1 | 3 | 0.15 | 0.45 | 18 | 8
HUD-50118-A | 184A Mortgagee's Assurance of Completion | 3 | 1 | 3 | 0.15 | 0.45 | 18 | 8
HUD-50119-A | 184A Post Endorsement Submission Checklist | 63 | 1 | 63 | 0.15 | 9.45 | 18 | 170
HUD-50124-A | 184A Homebuyer Notice Form | 63 | 1 | 63 | 0.15 | 9.45 | 18 | 170
HUD-50125-A | 184A Applicant Acknowledgement | 3 | 1 | 3 | 0.15 | 0.45 | 18 | 8
HUD-50127-A | 184A Endorsement Submission Checklist—Acquisition and Single Close New Const/Rehab | 63 | 1 | 63 | 0.5 | 31.5 | 18 | 567
HUD-50128-A | 184A Endorsement Submission Checklist—Refinance | 63 | 1 | 63 | 0.3 | 18.9 | 18 | 340
HUD-50131 | Request for Section 184 Case Number | 5,500 | 1 | 5,500 | 0.1 | 550 | 18 | 9,900
HUD-50132 | Mortgage Credit Analysis Worksheet | 5,000 | 1 | 5,000 | 0.5 | 2,500 | 18 | 45,000
HUD-50132-A | Hawaiian Mortgage Credit Analysis Worksheet | 65 | 1 | 65 | 0.5 | 32.5 | 18 | 585
HUD-50143-A | Section 184—A Loan Guarantee Firm Commitment Form | 65 | 1 | 65 | 0.15 | 9.75 | 18 | 176
HUD-50148 | Checklist for Proposed Transactions Less Than 1 Year Old | 500 | 1 | 500 | 0.15 | 75 | 18 | 1,350
HUD-50149 | Rider For Section 184 Tribal Trust | 500 | 1 | 500 | 0.5 | 250 | 18 | 4,500
HUD-50149-A | Hawaiian Rider For Section 184—A Tribal Trust | 63 | 1 | 63 | 0.5 | 31.5 | 18 | 567
HUD-53039 | 184 Loan Guarantee Certificate | 4,900 | 1 | 4,900 | 0 | 0 | 18 | 0
HUD-53039-A | 184A Loan Guarantee Certificate | 65 | 1 | 65 | 0 | 0 | 18 | 0
Total |  | 21,985 |  | 21,985 |  | 6,051 |  | 108,924

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond: Including through the use of appropriate automated collection techniques or other forms of information technology, e.g., permitting electronic submission of responses.

HUD encourages interested parties to submit comment in response to these questions.

Authority: Section 3507 of the Paperwork Reduction Act of 1995, 44 U.S.C. Chapter 35.

Dated: January 16, 2018.
Colette Pollard,
Department Reports Management Officer, Office of the Chief Information Officer.

[FR Doc. 2018-01813 Filed 1-30-18; 8:45 am]

BILLING CODE 4210-67-P